DEPARTMENT OF LABOR

Employment and Training Administration

[TA-W-70,953]

ABB, Inc.; Muskegon, MI; Notice of Termination of Investigation

Pursuant to Section 223 of the Trade Act of 1974, as amended, an investigation was initiated on June 4, 2009 in response to a worker petition filed by a company official on behalf of workers of ABB, Inc., Muskegon, Michigan.

The petitioning group of workers is covered by an active certification, TA-W-71,202 which expires on July 22, 2011. Consequently, further investigation in this case would serve no purpose, and the investigation has been terminated.

Signed at Washington, DC, this 27th day of July 2009.
Richard Church,
Certifying Officer, Division of Trade Adjustment Assistance.

[FR Doc. E9-20457 Filed 8-25-09; 8:45 am]

BILLING CODE 4510-FN-P